DEPARTMENT OF TRANSPORTATION

National Highway Traffic Safety Administration

Reports, Forms and Recordkeeping Requirements; Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on November 10, 2003 [68 FR 63845].

DATES: Comments must be submitted on or before May 24, 2004.

FOR FURTHER INFORMATION CONTACT: Mr. Jeff Woods at the National Highway Traffic Safety Administration (NHTSA), Office of Crash Avoidance Standards, 202-366-6206. By mail: NVS-122, 400 Seventh Street, SW., Washington, DC 20590.

SUPPLEMENTARY INFORMATION:

National Highway Traffic Safety Administration

Title: Brake Hose Manufacturing Identification, Federal Motor Vehicle Safety Standard (FMVSS) No. 106.

OMB Control Number: 2127-0052

Type of Request: Request for public comment on a previously approved collection of information.

Abstract: Each manufacturer of brake hoses is required to register their manufacturing identification marks with NHTSA, in accordance with requirements in FMVSS No. 106, Brake Hoses. Manufacturer markings are typically put on motor vehicle brake hoses so that the manufacturer can be identified if a safety problem occurs with brake hoses installed on vehicles. Brake hose manufacturers register approximately 20 new identification marks each year, by submitting a request letter sent via U.S. mail, facsimile, or e-mail.

Affected Public: Business or other for-profit.

Estimated Total Annual Burden: 30 hours and $3,000.

ADDRESSES: Send comments, within 30 days, to the Office of Information and Regulatory Affairs, Office of Management and Budget, 725 17th Street, NW., Washington, DC 20503, Attention NHTSA Desk Officer.

Comments Are Invited On:

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: April 8, 2004.
Stephen R. Kratzke,
Associate Administrator for Safety Performance Standards.

[FR Doc. 04-9258 Filed 4-22-04; 8:45 am]

BILLING CODE 4910-59-P